FEDERAL MINE SAFETY AND HEALTH REVIEW COMMISSION

29 CFR Parts 2700, 2701, 2702, 2704, 2705, 2706

Commission Address Change

AGENCY: Federal Mine Safety and Health Review Commission (FMSHRC)

ACTION: Final rule.

SUMMARY: The Federal Mine Safety and Health Review Commission is amending its regulations to reflect changes to the addresses of its Headquarters office, and one of its Offices of Administrative Law Judges. FMSHRC is relocating its Headquarters office and one of its Offices of Administrative Law Judges, and these amendments to the regulations are necessary to inform the public of FMSHRC's new address.

DATES: This final rule will take effect on September 30, 2002.

ADDRESSES: This final rule is available on FMSHRC's Internet site, http://www.fmshrc.gov at the “What's New/Recent Developments” icons.

FOR FURTHER INFORMATION CONTACT: Sarah Stewart, Deputy General Counsel, Office of the General Counsel, Federal Mine Safety and Health Review Commission, 1730 K Street, NW., 6th Floor, Washington, DC 20006, 202-653-5610, before September 30, 2002, and 601 New Jersey Avenue, NW., Suite 9500, Washington, DC 20001, (202) 434-9935, thereafter.

SUPPLEMENTARY INFORMATION:

A. Background

On September 30, 2002, FMSHRC will move its Headquarters office from 1730 K Street, NW, 6th Floor, Washington, DC 20006 to 601 New Jersey Avenue, NW, Suite 9500, Washington, DC 20001. On that same date, FMSHRC will move its Office of Administrative Law Judges from Skyline Towers No. 2, Tenth Floor, 5203 Leesburg Pike, Falls Church, Virginia 22041 to 601 New Jersey Avenue, NW, Suite 9500, Washington, DC 20001. The Office of Administrative Law Judges presently located at 1244 Speer Boulevard, Suite 280, Denver, Colorado 80204, will remain at that location.

Because this amendment deals with agency management and procedures, the notice and comment provisions of the Administrative Procedure Act do not apply pursuant to 5 U.S.C. 553(a)(2) and (b)(3)(A).

Good cause exists to dispense with the usual 30-day delay in the effective date because the amendments are of a minor and administrative nature dealing with only a change in address.

B. Paperwork Reduction Act Statement

This final rule does not contain a new or amended information collection requirement subject to the Paperwork Reduction Act of 1955 (44 U.S.C. 3501 et seq.).

C. Executive Order 12866 Regulatory Planning and Review

This final rule is not a “regulatory action” under section 3 of Executive Order 12866, and has not been reviewed by the Office of Management and Budget. The rule is an administrative action that changes the address of a Federal agency. Because the rule is limited to agency organization, management and personnel, it falls within the exclusion set forth in section 3(d)(3) of the Executive Order.

In promulgating this rule, FMSHRC has adhered to the regulatory philosophy and applicable principles of regulation set forth in section 1 of the Executive Order.

D. Unfunded Mandates Reform Act

For purposes of the Unfunded Mandates Reform Act of 1995, this rule does not include any Federal mandate that may result in increased expenditures by State, local or tribal governments, or by the private sector.

List of Subjects

29 CFR Part 2700

Administrative practice and procedure, Mine safety and health, Penalties, Whistleblowing.

29 CFR Part 2701

Sunshine Act.

29 CFR Part 2702

Freedom of information.

29 CFR Part 2704

Claims, Equal access to justice.

29 CFR Part 2705

Privacy.

29 CFR Part 2706

Administrative practice and procedure, Civil rights, Equal employment opportunity, Federal buildings and facilities, Individuals with disabilities.

Accordingly, Chapter XXVII of Title 29 of the Code of Federal Regulations is amended as follows:

PART 2700—PROCEDURAL RULES

1. The authority citation for Part 2700 continues to read as follows:

Authority: 30 U.S.C. 815, 820 and 823.

§ 2700.4 [Amended]

2. In § 2700.4(b)(1), the address for the Executive Director, Federal Mine Safety and Health Review Commission, is revised from “1730 K Street, NW., Sixth Floor, Washington, DC 20006-3867” to read “601 New Jersey Avenue, NW., Suite 9500, Washington, DC 20001”.

§ 2700.5 [Amended]

3. In § 2700.5(b), the address for the Docket Office, Federal Mine Safety and Health Review Commission, is revised from “1730 K Street, NW., Sixth Floor, Washington, DC 20006-3867” to read “601 New Jersey Avenue, NW., Suite 9500, Washington, DC 20001; facsimile delivery as allowed by these rules (see § 2700.5(d)), shall be transmitted to (202) 434-9954”.

4. In § 2700.5(g), the address for the Office of General Counsel or the Docket Office of the Federal Mine Safety and Health Review Commission is revised from “1730 K St., NW., Sixth Floor, Washington, DC 20006-3867” to read “601 New Jersey Avenue, NW., Suite 9500, Washington, DC 20001”.

§ 2700.82 [Amended]

5. In § 2700.82(d), the address for the Office of General Counsel or the Docket Office of the Federal Mine Safety and Health Review Commission is revised from “1730 K Street, NW., Sixth Floor, Washington, DC 20006-3867” to read “601 New Jersey Avenue, NW., Suite 9500, Washington, DC 20001”.

PART 2701—GOVERNMENT IN THE SUNSHINE ACT REGULATIONS

6. The authority citation for part 2701 continues to read as follows:

Authority: Sec. 113, Federal Mine Safety and Health Act of 1977, Pub. L. 95-165 (30 U.S.C. 823).

§ 2701.4 [Amended]

7. In § 2701.4, the address for the Office of the Executive Director, Federal Mine Safety and Health Review Commission, is revised from “1730 K Street, NW., Washington, DC 20006” to read “601 New Jersey Avenue, NW., Suite 9500, Washington, DC 20001”.

PART 2702—REGULATIONS IMPLEMENTING THE FREEDOM OF INFORMATION ACT

8. The authority citation for part 2702 continues to read as follows:

Authority: Sec. 113, Federal Mine Safety and Health Act of 1977, Pub. L. 95-165 (30 U.S.C. 801 et seq.); 5 U.S.C. 552; Pub. L. 104-231, October 2, 1996, 110 Stat. 3048.

9. Section 2702.2 is revised to read as follows:

§ 2702.2 Location of offices.

The Commission maintains its Headquarters office at 601 New Jersey Avenue, NW., Suite 9500, Washington, DC 20001. It has two offices for Administrative Law Judges, one at 601 New Jersey Avenue, NW., Suite 9500, Washington, DC 20001, and the other at 1244 Speer Boulevard, Suite 280, Denver, Colorado 80204-3582.

§ 2702.3 [Amended]

10. In § 2702.3(a), the address for the Executive Director, Federal Mine Safety and Health Review Commission, is revised from “6th Floor, 1730 K Street NW., Washington, DC 20006-3867” to read “601 New Jersey Avenue, NW., Suite 9500, Washington, DC 20001”.

PART 2704—IMPLEMENTATION OF THE EQUAL ACCESS TO JUSTICE ACT IN COMMISSION PROCEEDINGS

11. The authority citation for part 2704 continues to read as follows:

Authority: (5 U.S.C. 504(c)(1); Pub. L. 99-80, 99 Stat. 183; Pub. L. 104-121, 110 Stat. 862.

§ 2704.201 [Amended]

12. In § 2704.201(a), the address for the Chief Administrative Law Judge of the Commission is revised from “1730 K Street NW, 6th Floor, Washington, DC 20006” to read “601 New Jersey Avenue, NW., Suite 9500, Washington, DC 20001”.

§ 2704.308 [Amended]

13. In § 2704.308(b), the address for the Commission is revised from “1730 K Street NW., Washington, DC 20006” to read “601 New Jersey Avenue, NW., Suite 9500, Washington, DC 20001”.

PART 2705—PRIVACY ACT IMPLEMENTATION

14. The authority citation for part 2705 continues to read as follows:

Authority: 5 U.S.C. 552a; Pub. L. 93-579.

§ 2705.4 [Amended]

15. In § 2705.4, the address for the Executive Director of the Commission is revised from “1730 K Street NW., Room 612, Washington, DC 20006” to read “601 New Jersey Avenue, NW., Suite 9500, Washington, DC 20001”.

§ 2705.8 [Amended]

16. In § 2705.8, the address for the Chairman, Federal Mine Safety and Health Review Commission, is revised from “1730 K Street NW., Room 610, Washington, DC 20006” to read “601 New Jersey Avenue, NW., Suite 9500, Washington, DC 20001”.

PART 2706—ENFORCEMENT OF NONDISCRIMINATION ON THE BASIS OF HANDICAP IN PROGRAMS OR ACTIVITIES CONDUCTED BY THE FEDERAL MINE SAFETY AND HEALTH REVIEW COMMISSION

17. The authority citation for part 2706 continues to read as follows:

Authority: 29 U.S.C. 794.

§ 2706.170 [Amended]

18. In § 2706.170(c), the address for the General Counsel, Federal Mine Safety and Health Review Commission, is revised from “1730 K Street NW., Suite 600, Washington, DC 20001” to read “601 New Jersey Avenue, NW., Suite 9500, Washington, DC 20001”.

Dated: September 20, 2002.
Richard L. Baker,
Executive Director, Federal Mine Safety and Health Review Commission.

[FR Doc. 02-24546 Filed 9-26-02; 8:45 am]

BILLING CODE 6735-01-P